FEDERAL COMMUNICATIONS COMMISSION

47 CFR Part 73

[DA 04-2460; MB Docket No. 04-299; RM-10958]

Radio Broadcasting Services; Refugio, Sinton, and Taft, TX

AGENCY: Federal Communications Commission.

ACTION: Proposed rule.

SUMMARY: This document requests comments on a petition for rulemaking filed jointly by Amigo Radio, Ltd. licensee of Station KOUL(FM), Sinton, Texas, and Pacific Broadcasting of Missouri LLC, licensee of Station KTKY(FM), Taft, proposing the reallotment of Channel 279C1 from Sinton to Refugio, Texas and modify the license of Station KOUL(FM) to reflect the change of community. They also request that we modify the operating condition for Station KTKY(FM), Taft, Texas, to permit the station to commence program test authority on Channel 293C2 when Station KOUL(FM) commences program test authority at Refugio. Channel 279C1 can be reallotted at Refugio at Petitioners' proposed site, 33.8 kilometers (21 miles) southwest of the community. Since this proposal is within 320 kilometers (199 miles) of the U.S.-Mexico border, concurrence of the Mexican government to the proposed allotments has been requested. The coordinates for Channel 279C2 at Refugio are 28-02-07 NL and 97-26-11 WL.

DATES: Comments must be filed on or before October 4, 2004, and reply comments on or before October 19, 2004.

ADDRESSES: Secretary, Federal Communications Commission, 445 Twelfth Street, SW., Washington, DC 20554. In addition to filing comments with the FCC, interested parties should serve the petitioner as follows: Robert B. Jacobi, Esq., Cohn & Marks, 1920 N Street, NW., Suite 300, Washington, DC 20036, (Counsel to Amigo Radio, Ltd.) and Pamela C. Cooper, Esq., Davis, Wright & Tremaine, LLP, 1500 K Street, NW., Suite 450, Washington, DC 20005, (Counsel to Pacific Broadcasting of Missouri, LLC).

FOR FURTHER INFORMATION CONTACT: Victoria McCauley, Media Bureau, (202) 418-2180.

SUPPLEMENTARY INFORMATION: This is a synopsis of the Commission's Notice of Proposed Rule Making, MB Docket No. 04-299, adopted August 10, 2004, and released August 12, 2004. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or http://www.BCPIWEB.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR § 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Channel 279C1 at Refugio, and by removing Channel 279C1 at Sinton.

Federal Communications Commission.
John A. Karousos,
Assistant Chief, Audio Division, Media Bureau.

[FR Doc. 04-19022 Filed 8-18-04; 8:45 am]

BILLING CODE 6712-01-P